DEPARTMENT OF DEFENSE

Department of the Army; Corps of Engineers

Intent To Prepare a Draft Environmental Impact Statement for the Athens Navigation Project, Village of Athens, Greene County, NY

AGENCY: Department of the Army, U.S. Army Corps of Engineers, DoD.

ACTION: Notice of intent.

SUMMARY: The U.S. Army Corps of Engineers (USACE), New York District, is preparing a Draft Environmental Impact Statement (DEIS) to ascertain compliance with and to lead to the production of a National Environmental Policy Act (NEPA) document in accordance with the President's Council of Environmental Quality (CEQ) Rules and Regulations, as defined and amended in 40 Code of Federal Regulations (CFR), parts 1500-1508, Corps principals and guidelines as defined in Engineering Regulation (ER) 1105-2-100, Planning Guidance Notebook, ER200-2-2, Procedures for Implementing NEPA, and other applicable Federal and State environmental laws for the proposed Athens Navigation Project, Village of Athens, Greene County, NY.

ADDRESSES: U.S. Army Corps of Engineers, New York District, 26 Federal Plaza, Room 2146, New York, NY 10278-0090.

FOR FURTHER INFORMATION CONTACT: Bonnie Hulkower, Project Biologist, Planning Division—Environmental Branch, at (212) 264-5798 or bonnie.hulkower@usace.army.mil.

SUPPLEMENTARY INFORMATION: This project is a modification to the Hudson River to Waterford project, authorized and directed by Section 110 of the Energy and Water Development Appropriations Act of 1997 (Pub. L. 104-206).

1. A Public Scoping Meeting was held in May 2002 and the results were collected in the Public Scoping Document. These results are available for review. All results from public and agency scoping coordination will be addressed in the DEIS. Parties interested in receiving the Scoping Document should contact Bonnie Hulkower (see ADDRESSES).

2. A DEIS is scheduled for completion by January 2005.

3. Federal agencies interested in participating as a Cooperating Agency are requested to submit a letter of intent to COL Richard J. Polo, Jr., District Engineer, (see ADDRESSES).

Brenda S. Bowen,
Army Federal Register Liaison Officer.

[FR Doc. 04-25681 Filed 11-18-04; 8:45 am]

BILLING CODE 3710-06-M